DEPARTMENT OF DEFENSE

Department of the Army

32 CFR Part 503

RIN 0702-AA46

Apprehension and Restraint

AGENCY: Department of the Army, DoD.

ACTION: Final rule, removal.

SUMMARY: This action removes 32 CFR part 503 published in the Federal Register, March 20, 1963 (28 FR 2732). The rule is being removed because it is now obsolete.

DATES: Effective December 21, 2004.

ADDRESSES: Headquarters, Department of the Army, Office of the Provost Marshal General, ATTN: DAPM-MPD-LE, 2800 Army Pentagon, Washington, DC 20310-2800.

FOR FURTHER INFORMATION CONTACT: Mr. Nate Evans, (703) 693-2126.

SUPPLEMENTARY INFORMATION: The Office of the Provost Marshal General (DAPM-MPD-LE), is the proponent for regulations in 32 CFR part 503, and has concluded this regulation is obsolete. This regulation has been rescinded. Therefore, it would be helpful in avoiding confusion with the public if 32 CFR, part 503, is removed.

List of Subjects in 32 CFR Part 503

Apprehension and restraint.

PART 503—[REMOVED]

Accordingly, for reasons stated in the preamble, under the authority of Sec. 3012, 70A Stat. 157; 10 U.S.C. 3012, 32 CFR part 503, Apprehension and Restraint, is removed in its entirety.

Brenda S. Bowen,
Army Federal Register Liaison Officer.

[FR Doc. 04-27849 Filed 12-20-04; 8:45 am]

BILLING CODE 3710-08-M